DEPARTMENT OF AGRICULTURE

Animal and Plant Health Inspection Service

[Docket No. APHIS-2011-0102]

Privacy Act of 1974; System of Records

AGENCY: Animal and Plant Health Inspection Service, USDA.

ACTION: Notice of a modified system of records; reopening of comment period.

SUMMARY: We are reopening the comment period for our proposal to modify a system of records titled the Animal Welfare Act and Horse Protection Act, USDA/APHIS-8. This action will allow interested persons additional time to prepare and submit comments.

DATES: The comment period for the notice published on October 24, 2019 (84 FR 56999) is reopened. We will consider all comments that we receive on or before December 26, 2019.

ADDRESSES: You may submit comments by either of the following methods:

• Federal eRulemaking Portal: Go to: http://www.regulations.gov/#!docketDetail;D=APHIS-2011-0102.

• Postal Mail/Commercial Delivery: Send your comment to Docket No. APHIS-2011-0102, Regulatory Analysis and Development, PPD, APHIS, Station 3A-03.8, 4700 River Road, Unit 118, Riverdale, MD 20737-1238.

Supporting documents and any comments we receive on this docket may be viewed at http://www.regulations.gov/#!docketDetail;D=APHIS-2011-0102 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For general questions, please contact Mr. Tola Liv, Information Systems Security Manager, Animal Care, APHIS, 4700 River Road Unit 84, Riverdale, MD 20737; (301) 851-3741. For Privacy Act questions concerning this system of records notice, please contact Ms. Tonya Woods, Director, Freedom of Information Act/Privacy Act, 4700 River Road, Unit 50, Riverdale, MD 20737; (301) 851-4076. For USDA Privacy Act questions, please contact the USDA Chief Privacy Officer, Information Security Center, Office of Chief Information Officer, USDA, Jamie L. Whitten Building, 1400 Independence Ave. SW, Washington, DC 20250; email: USDAPrivacy@ocio.usda.gov.

SUPPLEMENTARY INFORMATION: On October 24, 2019, we published in the Federal Register (84 FR 56999-57004, Docket No. APHIS-2011-0102) a notice of a modified system of records titled Animal Welfare Act and Horse Protection Act, USDA/APHIS-8. In addition to revising the name of the system, we proposed to further modify the system by updating the system location, manager, and system safeguards; expanding the categories of individuals and records included in the system; revising the record source categories; updating policies and practices for storage, retrievability, and retention and disposal of records; updating the notification, record access, and contesting record procedures; and revising, deleting, redesignating, and establishing routine uses.

Comments on the notice were required to be received on or before November 25, 2019. We are reopening the comment period on Docket No. APHIS-2011-0102 for an additional 30 days. This action will allow interested persons additional time to prepare and submit comments.

We will also consider all comments received between November 26, 2019 (the day after the close of the original comment period) and the date of this notice.

Done in Washington, DC, this 19th day of December 2019.
Kevin Shea,
Administrator, Animal and Plant Health Inspection Service.

[FR Doc. 2019-27800 Filed 12-20-19; 8:45 am]

BILLING CODE 3410-34-P